ENVIRONMENTAL PROTECTION AGENCY

[ER-FRL-9014-9]

Environmental Impact Statements; Notice of Availability

Responsible Agency: Office of Federal Activities, General Information (202) 564-7146 or http://www.epa.gov/compliance/nepa/.

Weekly receipt of Environmental Impact Statements

Filed 05/05/2014 Through 05/09/2014

Pursuant to 40 CFR 1506.9.

Notice

Section 309(a) of the Clean Air Act requires that EPA make public its comments on EISs issued by other Federal agencies. EPA's comment letters on EISs are available at: http://www.epa.gov/compliance/nepa/eisdata.html.

EIS No. 20140146, Final EIS, NMFS, 00, Amending the Atlantic Large Whale Take Reduction Plan Vertical Line Rule, Review Period Ends: 06/16/2014, Contact: Kate Swails 978-282-8481.

EIS No. 20140147, Draft EIS, USFS, CA, Rim Fire Recovery, Comment Period Ends: 06/30/2014, Contact: Maria Benech 209-532-3671.

EIS No. 20140148, Final EIS, FTA, TX, Tex Rail Corridor Commuter Rail Project, Review Period Ends: 06/20/2014, Contact: Don Koski 817-978-0571.

EIS No. 20140149, Final EIS, USN, CA, US Navy F-35C West Coast Homebasing, Review Period Ends: 06/16/2014, Contact: Amy Kelly 619-532-2799.

Amended Notices

EIS No. 20140097, Draft EIS, OSM, NM, Four Corners Power Plant and Navajo Mine Energy Project, Comment Period Ends: 06/27/2014, Contact: Marcelo Calle 303-293-5035. Revision to the FR Notice Published 03/28/2014; Extending Comment Period from 5/27/2014 to 6/27/2014.

Dated: May 13, 2014.
Dawn Roberts,
Management Analyst, Office of Federal Activities.

[FR Doc. 2014-11379 Filed 5-15-14; 8:45 am]

BILLING CODE 6560-50-P